DEPARTMENT OF THE INTERIOR

Office of the Secretary

[Docket No. ONRR-2012-0003, DS63600000 DR2000000.PMN000 189D0102R2]

Royalty Policy Committee; Public Meeting; Correction

AGENCY: Office of Natural Resources Revenue, Interior.

ACTION: Notice; correction.

SUMMARY: The Office of Natural Resources Revenue (ONRR) published a document in the Federal Register of August 13, 2018, announcing the fourth meeting of the Royalty Policy Committee (Committee). The document contained an incorrect meeting location.

FOR FURTHER INFORMATION CONTACT: Mr. Chris Mentasti, Office of Natural Resources Revenue at (202) 513-0614 or email to rpc@ios.doi.gov.

SUPPLEMENTARY INFORMATION:

Correction

In the Federal Register of August 13, 2018, in FR Doc. 2018-17346, on page 40081, in the third column, correct the ADDRESSES caption to read:

ADDRESSES: The Committee meeting will be held at the Sheraton Denver West Hotel, 360 Union Boulevard, Lakewood, CO 80228. Members of the public may attend in person or view documents and presentation under discussion via WebEx at https://onrr.webex.com/onrr/j.php?MTID=m8b07b197593ce80917ef1715ae9f262a and listen to the proceedings at telephone number 1-888-469-0854 or International Toll number 517-319-9462 (passcode: 9724702).

Authority: 5 U.S.C. Appendix 2.

Gregory J. Gould,
Director for Office of Natural Resources Revenue.

[FR Doc. 2018-18680 Filed 8-28-18; 8:45 am]

BILLING CODE 4335-30-P